DEPARTMENT OF TRANSPORTATION

Federal Aviation Administration

14 CFR Part 39

[Docket No. FAA-2014-0139; Directorate Identifier 2012-NM-133-AD; Amendment 39-18081; AD 2015-02-14]

RIN 2120-AA64

Airworthiness Directives; Airbus Airplanes

AGENCY: Federal Aviation Administration (FAA), Department of Transportation (DOT).

ACTION: Final rule.

SUMMARY: We are superseding Airworthiness Directive (AD) 2009-20-05 for certain Airbus Model A318, A319, A320, and A321 series airplanes. AD 2009-20-05 required one-time inspections for cracking, damage, correct installation, and correct adjustment of the main landing gear (MLG) door hinge and actuator fittings on the keel beam, and corrective actions if necessary. This new AD expands the applicability, reduces the compliance time, and requires repetitive inspections instead of the one-time inspection. This AD also requires revising the maintenance or inspection program. This AD was prompted by reports of cracks on fittings that had successfully passed certain required inspections. We are issuing this AD to detect and correct cracking on the MLG door hinge fitting and actuator fitting on the keel beam, which could lead to in-flight detachment of an MLG door, possibly resulting in injury to persons on the ground and/or damage to the airplane.

DATES: This AD becomes effective April 6, 2015.

The Director of the Federal Register approved the incorporation by reference of certain publications listed in this AD as of April 6, 2015.

The Director of the Federal Register approved the incorporation by reference of certain other publications listed in this AD as of November 3, 2009 (74 FR 49795, September 29, 2009).

ADDRESSES: You may examine the AD docket on the Internet at http://www.regulations.gov/#!docketDetail;D=FAA-2014-0139; or in person at the Docket Management Facility, U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0139.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 2009-20-05, Amendment 39-16028 (74 FR 49795, September 29, 2009). AD 2009-20-05 applied to certain Model A318, A319, A320, and A321 series airplanes. The NPRM published in the Federal Register on March 12, 2014 (79 FR 13925).

The European Aviation Safety Agency (EASA), which is the Technical Agent for the Member States of the European Union, has issued EASA Airworthiness Directive 2012-0118, dated July 4, 2012 (referred to after this as the Mandatory Continuing Airworthiness Information, or “the MCAI”), to correct an unsafe condition on the specified products. The MCAI states:

Several cases of cracks have reportedly been found on the MLG door hinge fitting and on the MLG door actuator fitting on the keel beam.

This condition, if not detected and corrected, could lead to in-flight detachment of a MLG door, possibly resulting in injury to persons on the ground and/or damage to the aeroplane.

To address this potential unsafe condition, EASA issued EASA AD 2007-0161 [http://ad.easa.europa.eu/blob/easa_ad_2007_0161_superseded.pdf/AD_2007-0161_1] [which corresponds to FAA AD 2009-20-05, Amendment 39-16028 (74 FR 49795, September 29, 2009)], to require a one-time inspection of the affected fittings and accomplishment of the applicable corrective actions.

Since that [EASA] AD was issued, some cracks have been found on fittings that had successfully passed the one-time inspection as required by EASA AD 2007-0161. Analyses of these cracks have lead Airbus to reconsider the repetitive inspections of the MLG door hinge and actuator fittings on the keel beam, in accordance with the ALI task 533154-02-1 requirement as defined in Airbus A318/A319/A320/A321 Airworthiness Limitation Items (ALI) Document, by introducing more restrictive inspection thresholds and intervals.

For the reasons stated above, this [EASA] AD, which supersedes EASA AD 2007-0161 and the ALI [Airworthiness Limitations Item] task 533154-02-1 requirements, expands the [EASA] AD applicability to all A318/A319/A320/A321 aeroplanes and requires repetitive inspections of the MLG door hinge and actuator fittings on the keel beam at a new threshold and interval and, depending on findings, the accomplishment of applicable corrective actions.

The inspections are detailed, high frequency eddy current (HFEC), and ultrasonic inspections for cracking, damage, correct installation, and correct adjustment, as applicable. The corrective actions include correcting incorrect adjustments and installations, and repair. This AD also requires revising the maintenance or inspection program, as applicable, to remove ALI task 533154-02-1. You may examine the MCAI in the AD docket on the Internet at http://www.regulations.gov/#!documentDetail;D=FAA-2014-0139-0002.

Comments

We gave the public the opportunity to participate in developing this AD. The following presents the comments received on the NPRM (79 FR 13925, March 12, 2014) and the FAA's response to each comment.

Requests To Reference Revised Service Bulletins

Airbus and United Airlines (UAL) requested that we reference Airbus Service Bulletin A320-53-1195, Revision 05, dated November 22, 2013; and Airbus Service Bulletin A320-53-1196, Revision 04, dated November 22, 2013; as appropriate sources of service information.

We agree with the commenters' requests to reference Airbus Service Bulletin A320-53-1195, Revision 05, dated November 22, 2013; and Airbus Service Bulletin A320-53-1196, Revision 04, dated November 22, 2013; as appropriate sources of service information for accomplishing the required actions in this AD. No additional work is specified by these service bulletin revisions for airplanes modified by any previous issue. We added a new paragraph (l) to this AD and redesignated subsequent paragraphs accordingly. New paragraph (l) gives credit for actions accomplished using certain service information before the effective date of this AD.

We have revised paragraph (i)(1) of this AD to refer to Airbus Service Bulletin A320-53-1195, Revision 05, dated November 22, 2013, and added paragraph (l)(1) to this AD to give credit for actions accomplished previously using Airbus Service Bulletin A320-53-1195, Revision 03, dated November 8, 2011; or Airbus Service Bulletin A320-53-1195, Revision 04, dated August 22, 2012.

We have revised paragraph (i)(2) of this AD to refer to Airbus Service Bulletin A320-53-1196, Revision 04, dated November 22, 2013; and added paragraph (l)(2) to this AD to give credit for actions accomplished using Airbus Service Bulletin A320-53-1196, Revision 02, dated November 8, 2011; or Airbus Service Bulletin A320-53-1196, Revision 03, dated August 22, 2012.

Request To Refer to Additional Service Information for Task Removal

UAL requested that we revise paragraph (k) of the proposed AD (79 FR 13925, March 12, 2014) to reference Airbus A318/A319/A320/A321 Airworthiness Limitation Items, Document AI/S-M4/95A.0252/96, Issue 10, dated October 2009; or Issue 11, dated September 2010; in addition to Airbus A318/A319/A320/A321 ALS Part 2—Damage Tolerant Airworthiness Limitations Items (DT ALI), Revision 01, dated April 4, 2012. UAL stated that Task 533154-02-1 of the Airbus A318/A319/A320/A321 ALS Part 2—Damage Tolerant Airworthiness Limitations Items (DT ALI), Revision 01, dated April 4, 2012, is “superseded by Airbus Service Bulletins A320-53-1195 and A320-53-1196.” UAL explained that operators that comply with Airbus A318/A319/A320/A321 ALS Part 2—Damage Tolerant Airworthiness Limitations Items (DT ALI), Revision 01, dated April 4, 2012, should already have removed Task 533154-02-1 from their maintenance/inspection programs. UAL also explained that operators might not have Airbus A318/A319/A320/A321 ALS Part 2—Damage Tolerant Airworthiness Limitations Items (DT ALI), Revision 01, dated April 4, 2012, in their maintenance/inspection programs and instead might have Airbus A318/A319/A320/A321 Airworthiness Limitation Items, Document AI/SE-M4/95A.0252/96, Issue 10, dated October 2009; or Issue 11, dated September 2010.

We agree with the commenter's request to refer to Airbus A318/A319/A320/A321 Airworthiness Limitation Items, Document AI/SE-M4/95A.0252/96, Issue 10, dated October 2009; or Issue 11, dated September 2010; in paragraph (k) of this AD. This revision will ensure that the actions specified by Task 533154-02-1 are removed from an operator's maintenance inspection program.

Request To Remove Reporting Requirement

UAL requested that we not require reporting, as described in the service information, if no damage and/or cracks are found during the inspection of the hinge fittings. UAL stated that reporting has insignificant value and is a burden on the operator. UAL explained that, since the inspections must be repetitively accomplished, the rate of reporting no findings will be significant without adding valued information, and that any damage/cracks will be reported to Airbus when they are contacted for repair approval.

We disagree with the commenter's request to remove the reporting action required by this AD. A reporting requirement is instrumental in ensuring that we can gather as much information as possible regarding the extent and nature of the identified unsafe condition, especially in cases where that data may not be available through other established means. Also, the commenter did not provided any rationale concerning how eliminating the reporting requirement will ensure that future service information from Airbus will continue to maintain operational safety of the fleet. We have not changed this AD in this regard.

Request To Remove Requirement To Refer to This AD in Repair Approvals

UAL requested that we remove the statement “for a repair method to be approved, the repair approval must specifically refer to this AD” in paragraph (i) of the proposed AD (79 FR 13925, March 12, 2014). UAL stated that this statement could have a significant impact on the financial cost and customer support between the operator and Airbus. UAL also stated that this statement should be removed for those general reasons stated in A4A's comment on the same topic in NPRM 2012-NM-101-AD (78 FR 78285, December 26, 2013), which stated, among other justifications, that “The added costs for this AD and all that may follow bearing the new procedural wording represent an unfair burden placed solely on U.S. registered aircraft.”

We concur with the commenter's request to remove the requirement to include the AD reference in repair approvals. Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 13925, March 12, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include “the Design Approval Holder (DAH) with a State of Design Authority's design organization approval (DOA)” to refer to a DAH authorized to approve required repairs for the AD.

Comments were provided to the NPRM (79 FR 13925, March 12, 2014) and to an NPRM referenced by the commenter (i.e., Directorate Identifier 2012-NM-101-AD (78 FR 78285, December 26, 2013)) about these proposed changes. One commenter to the NPRM having Directorate Identifier 2012-NM-101-AD, United Parcel Service (UPS), stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, EASA, or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility afforded previously by the Airworthy Product paragraph. Consistent with long-standing FAA policy, such flexibility was never intended for required actions. This is also consistent with the recommendation of the AD Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to NPRM 2012-NM-101-AD (78 FR 78285, December 26, 2013) pointed out that in many cases the foreign manufacturer's service bulletin and the foreign authority's MCAI may have been issued some time before the FAA AD. Therefore, the DOA may have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement from this AD that the DAH-provided repair specifically refer to this AD. Before adopting such a requirement in the future, the FAA will coordinate with affected DAHs and verify they are prepared to implement means to ensure that their repair approvals consider the unsafe condition addressed in an AD. Any such requirements will be adopted through the normal AD rulemaking process, including notice-and-comment procedures, when appropriate.

We have also decided not to include a generic reference to either the “delegated agent” or the “DAH with State of Design Authority design organization approval,” but instead we will provide the specific delegation approval granted by the State of Design Authority for the DAH.

Conclusion

We reviewed the available data, including the comments received, and determined that air safety and the public interest require adopting this AD with the changes described previously and minor editorial changes. We have determined that these changes:

• Are consistent with the intent that was proposed in the NPRM (79 FR 13925, March 12, 2014) for correcting the unsafe condition; and

• Do not add any additional burden upon the public than was already proposed in the NPRM (79 FR 13925, March 12, 2014).

We also determined that these changes will not increase the economic burden on any operator or increase the scope of this AD.

Related Service Information Under 1 CFR Part 51

We reviewed Airbus Service Bulletin A320-53-1195, Revision 05, dated November 22, 2013, which describes procedures for inspections of the MLG door actuator fittings on the keel beam, and corrective actions if necessary. We also reviewed Airbus Service Bulletin A320-53-1196, Revision 04, dated November 22, 2013, which describes procedures for inspections of the MLG door hinge fitting on the keel beam, and corrective actions if necessary. This service information is reasonably available; see ADDRESSES for ways to access this service information.

Costs of Compliance

We estimate that this AD affects 851 airplanes of U.S. registry.

The actions that are required by AD 2009-20-05, Amendment 39-16028 (74 FR 49795, September 29, 2009), and retained in this AD take about 28 work-hours per product, at an average labor rate of $85 per work-hour. Based on these figures, the estimated cost of the actions that were required by AD 2009-20-05 is $2,380 per product.

We also estimate that it will take about 26 work-hours per product to comply with the basic requirements of this AD. The average labor rate is $85 per work-hour. Based on these figures, we estimate the cost of this AD on U.S. operators to be $1,880,710, or $2,210 per product.

We have received no definitive data that would enable us to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0139; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-20-05, Amendment 39-16028 (74 FR 49795, September 29, 2009), and adding the following new AD:

2015-02-14 Airbus: Amendment 39-18081. Docket No. FAA-2014-0139; Directorate Identifier 2012-NM-133-AD.

(a) Effective Date

This AD becomes effective April 6, 2015.

(b) Affected ADs

This AD replaces AD 2009-20-05, Amendment 39-16028 (74 FR 49795, September 29, 2009).

(c) Applicability

This AD applies to the Airbus airplanes specified in paragraphs (c)(1), (c)(2), (c)(3), and (c)(4) of this AD, certificated in any category, all manufacturer serial numbers (MSNs).

(1) Model A318-111, -112, -121, and -122 airplanes.

(2) Model A319-111, -112, -113, -114, -115, -131, -132, and -133 airplanes.

(3) Model A320-211, -212, -214, -231, -232, and -233 airplanes.

(4) Model A321-111, -112, -131, -211, -212, -213, -231, and -232 airplanes.

(d) Subject

Air Transport Association (ATA) of America Code 53, Fuselage.

(e) Reason

This AD was prompted by reports of cracks on the main landing gear (MLG) door hinge fitting and actuator fitting on the keel beam. We are issuing this AD to detect and correct cracking on the MLG door hinge fitting and actuator fitting on the keel beam, which could lead to in-flight detachment of an MLG door, possibly resulting in injury to persons on the ground and/or damage to the airplane.

(f) Compliance

Comply with this AD within the compliance times specified, unless already done.

(g) Retained One-Time Inspections and Corrective Action

This paragraph restates the requirements of paragraphs (f)(1) and (f)(2) of AD 2009-20-05, Amendment 39-16028 (74 FR 49795, September 29, 2009), with specific delegation approval language. For airplanes having serial numbers up to MSN 2850 inclusive, except MSNs 0115, 0184, 0782, 1151, 1190, 2650, 2675, 2706, 2801, and 2837: Do the actions required by paragraphs (g)(1) and (g)(2) of this AD.

(1) At the latest of the times specified in paragraphs (g)(1)(i), (g)(1)(ii), and (g)(1)(iii) of this AD: Perform detailed visual, high frequency eddy current (HFEC), and ultrasonic inspections (for cracking, damage, correct installation, and correct adjustment, as applicable) of the left-hand (LH) and right-hand (RH) MLG door actuator fitting on the keel beam, and do all applicable corrective actions before further flight, except as provided by paragraph (h) of this AD. Do all actions required by this paragraph in accordance with the Accomplishment Instructions of Airbus Mandatory Service Bulletin A320-53-1195, Revision 02, including Appendix 01, dated April 5, 2007; except where that service information specifies that the applicable corrective action is contacting Airbus, contact Airbus for repair instructions and repair before further flight. As of the effective date of this AD, where that service information specifies that the applicable corrective action is contacting Airbus, before further flight, repair using a method approved by the Manager, ANM-116, Transport Airplane Directorate, FAA; or the European Aviation Safety Agency (EASA); or Airbus's EASA Design Organization Approval (DOA).

(i) Within 6,000 flight cycles since first flight.

(ii) Within 1,500 flight cycles after November 3, 2009 (the effective date of AD 2009-20-05, Amendment 39-16028 (74 FR 49795, September 29, 2009)).

(iii) Within 6,000 flight cycles from the latest MLG door actuator fitting replacement.

(2) At the later of the times specified in paragraphs (g)(2)(i) and (g)(2)(ii) of this AD: Perform detailed visual and HFEC inspections (for cracking, damage, correct installation, and correct adjustment, as applicable) of the LH and RH MLG door hinge fitting on the keel beam, and do all applicable corrective actions before further flight, except as provided by paragraph (h) of this AD. Do all actions required by this paragraph in accordance with the Accomplishment Instructions of Airbus Mandatory Service Bulletin A320-53-1196, Revision 01, including Appendix 01, dated November 29, 2006; except where that service information specifies that the applicable corrective action is contacting Airbus, contact Airbus for repair instructions and repair before further flight. As of the effective date of this AD, where that service information specifies that the applicable corrective action is contacting Airbus, before further flight, repair using a method approved by the Manager, ANM-116, Transport Airplane Directorate, FAA; or the EASA; or Airbus's EASA DOA.

(i) Within 4,500 flight cycles since first flight.

(ii) Within 1,500 flight cycles after November 3, 2009 (the effective date of AD 2009-20-05, Amendment 39-16028 (74 FR 49795, September 29, 2009)).

(h) Retained Exception to Paragraph (g) of This AD

This paragraph restates the exception specified in paragraph (f)(4) of AD 2009-20-05, Amendment 39-16028 (74 FR 49795, September 29, 2009). Where the Accomplishment Instructions of Airbus Mandatory Service Bulletin A320-53-1195, Revision 02, including Appendix 01, dated April 5, 2007; or Airbus Mandatory Service Bulletin A320-53-1196, Revision 01, including Appendix 01, dated November 29, 2006; as applicable; specify to submit a report where no damage or crack is found during the inspection required by paragraph (g)(1) or (g)(2) of this AD: Send the report to Airbus using the applicable reporting sheet in Appendix 01 of Airbus Mandatory Service Bulletin A320-53-1195, Revision 02, dated April 5, 2007; or Airbus Mandatory Service Bulletin A320-53-1196, Revision 01, dated November 29, 2006. Send the report at the applicable time specified in paragraph (h)(1) or (h)(2) of this AD.

(1) If the inspection was done on or after November 3, 2009 (the effective date of AD 2009-20-05, Amendment 39-16028 (74 FR 49795, September 29, 2009)): Submit the report within 30 days after the inspection.

(2) If the inspection was done before November 3, 2009 (the effective date of AD 2009-20-05, Amendment 39-16028 (74 FR 49795, September 29, 2009)): Submit the report within 30 days after November 3, 2009.

(i) New Repetitive Inspections and Corrective Action

(1) At the latest of the times specified in paragraphs (i)(1)(i), (i)(1)(ii), and (i)(1)(iii) of this AD: Perform detailed, HFEC, and ultrasonic inspections (for cracking, damage, correct installation, and correct adjustment, as applicable) of the LH and RH MLG door actuator fitting on the keel beam, and do all applicable corrective actions before further flight. Do all actions required by this paragraph in accordance with the Accomplishment Instructions of Airbus Service Bulletin A320-53-1195, Revision 05, dated November 22, 2013; except where that service information specifies that the applicable corrective action is contacting Airbus, before further flight, repair using a method approved by the Manager, International Branch, ANM-116, Transport Airplane Directorate, FAA; or the EASA; or Airbus's EASA DOA. Repeat the inspections thereafter at intervals not to exceed 2,250 flight cycles.

(i) Before the accumulation of 3,000 flight cycles since first flight.

(ii) Within 2,250 flight cycles after the most recent inspection done as described in Airbus Service Bulletin A320-53-1195, or Task 533154-02-1 of the Airbus A318/A319/A320/A321 Airworthiness Limitations Section Part 2—Damage Tolerant Airworthiness Limitations Items (DT ALI), as applicable.

(iii) Within 1,500 flight cycles after the effective date of this AD.

(2) At the latest of the times specified in paragraphs (i)(2)(i), (i)(2)(ii), and (i)(2)(iii) of this AD: Perform detailed and HFEC inspections (for cracking, damage, correct installation, and correct adjustment, as applicable) of the LH and RH MLG door hinge fitting on the keel beam, and do all applicable corrective actions before further flight. Do all actions required by this paragraph in accordance with the Accomplishment Instructions of Airbus Service Bulletin A320-53-1196, Revision 04, dated November 22, 2013; except where that service information specifies that the applicable corrective action is contacting Airbus, before further flight, repair using a method approved by the Manager, International Branch, ANM-116, Transport Airplane Directorate, FAA; or the EASA; or Airbus's EASA DOA. Repeat the inspections thereafter at intervals not to exceed 3,000 flight cycles.

(i) Before the accumulation of 3,000 flight cycles since first flight.

(ii) Within 3,000 flight cycles after the most recent inspection done as described in Airbus Service Bulletin A320-53-1196, or Task 533154-02-1 of the Airbus A318/A319/A320/A321 ALS Part 2—Damage Tolerant Airworthiness Limitation Items (DT ALI), as applicable.

(iii) Within 1,500 flight cycles after the effective date of this AD.

(j) New Corrective Action Limitation

The accomplishment of a corrective action on an airplane, as required by paragraph (i) of this AD, does not constitute terminating action for the repetitive inspection requirements of this AD for that airplane.

(k) New Maintenance or Inspection Program Revision

After the effective date of this AD and before further flight after doing the inspection required by paragraph (i) of this AD: Revise the maintenance or inspection program, as applicable, to remove Task 533154-02-1 of the Airbus A318/A319/A320/A321 ALS Part 2—Damage Tolerant Airworthiness Limitations Items (DT ALI), Revision 01, dated April 4, 2012; Airbus A318/A319/A320/A321 Airworthiness Limitation Items, Document AI/SE-M4/95A.0252/96, Issue 10, dated October 2009; or Airbus A318/A319/A320/A321 Airworthiness Limitation Items, Document AI/SE-M4/95A.0252/96 Issue 11, dated September 2010. The actions required by this AD take precedence over Task 533154-02-1 of the Airbus A318/A319/A320/A321 ALS Part 2—Damage Tolerant Airworthiness Limitation Items (DT ALI), Revision 01, dated April 4, 2012; Airbus A318/A319/A320/A321 Airworthiness Limitation Items, Document AI/SE-M4/95A.0252/96, Issue 10, dated October 2009; and Airbus A318/A319/A320/A321 Airworthiness Limitation Items, Document AI/SE-M4/95A.0252/96 Issue 11, dated September 2010.

(l) Credit for Previous Actions

(1) This paragraph provides credit for actions required by paragraph (i)(1) of this AD, if those actions were performed before the effective date of this AD using Airbus Service Bulletin A320-53-1195, Revision 03, dated November 8, 2011; or Airbus Service Bulletin A320-53-1195, Revision 04, dated August 22, 2012; which are not incorporated by reference in this AD.

(2) This paragraph provides credit for actions required by paragraph (i)(2) of this AD, if those actions were performed before the effective date of this AD using Airbus Service Bulletin A320-53-1196, Revision 02, dated November 8, 2011; or Airbus Service Bulletin A320-53-1196, Revision 03, dated August 22, 2012; which are not incorporated by reference in this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(n) Related Information

(1) Refer to Mandatory Continuing Airworthiness Information (MCAI) EASA Airworthiness Directive 2012-0118, dated July 4, 2012, for related information. You may examine the MCAI in the AD docket on the Internet at http://www.regulations.gov/#!documentDetail;D=FAA-2014-0139-0002.

(2) Service information identified in this AD that is not incorporated by reference in this AD is available at the addresses specified in paragraphs (o)(5) and (o)(6) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 6, 2015.

(i) Airbus Service Bulletin A320-53-1195, Revision 05, dated November 22, 2013.

(ii) Airbus Service Bulletin A320-53-1196, Revision 04, dated November 22, 2013.

(4) The following service information was approved for IBR on November 3, 2009 (74 FR 49795, September 29, 2009).

(i) Airbus Mandatory Service Bulletin A320-53-1195, Revision 02, including Appendix 01, dated April 5, 2007.

(ii) Airbus Mandatory Service Bulletin A320-53-1196, Revision 01, including Appendix 01, dated November 29, 2006.

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on February 4, 2015.
Dionne Palermo,
Acting Manager, Transport Airplane Directorate, Aircraft Certification Service.

[FR Doc. 2015-02692 Filed 2-27-15; 8:45 am]

BILLING CODE 4910-13-P